DEPARTMENT OF LABOR

Office of the Secretary

Submission for OMB Review: Comment Request

February 25, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on (202) 693-4129 (this is not a toll-free number) or e-mail: king.darrin@dol.gov.

Comments should be sent to Office of Information and Regulatory Affairs, Attn: OMB Desk Officer for the Occupational Safety and Health Administration (OSHA), Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Underground Construction Standard (29 CFR 1926.800).

OMB Number: 1218-0067.

Frequency: On occasion and annually.

Type of Response: Recordkeeping and third party disclosure.

Affected Public: Business or other for-profit.

Number of Respondents: 323.

Number of Annual Responses: 885,762.

Estimated Time Per Response: Varies from 30 seconds to read and record air-quality test results to one hour to inspect, load test, and complete and maintain a certification record for a hoist.

Total Burden Hours: 57,949.

Total Annualized capital/startup costs: $0.

Total Annual Costs (operating/maintaining systems or purchasing services): $117,000.

Description: Seven paragraphs in the Underground Construction Standard (“the Standard”) require employers to post warning signs or notices during underground construction; these paragraphs are (b)(3), (i)(3), (j)(1)(vi)(A), (m)(2)(ii), (o)(2), (q)(11), and (t)(1)(iv)(B). The warning signs and notices required by these paragraphs enable employers to effectively alert employees to the presence of hazards or potential hazards at the job site, thereby preventing employee exposure to hazards or potential hazards associated with underground construction that could cause death or serious harm.

Certification inspection records for hoist. Paragraph (t)(i)(xxi) of the Standard requires employers to inspect and load test hoists when they install them, and at least annually thereafter; they must also inspect and load test a hoist after making any repairs or alterations to it that affect its structural integrity, and after tripping a safety device on the hoist. Employers must also prepare a certification record of each inspection and load test that includes specified information, and maintain the most recent certification record until they complete the construction project.

Establishing and maintaining a written record of the most recent inspection and load test alerts equipment mechanics to problems identified during the inspection. Prior to returning the equipment to service, employers can review the records to ensure that the mechanics performed the necessary repairs and maintenance. Accordingly, by using only equipment that is in safe working order, employers will prevent severe injury and death to the equipment operators and other employees who work near the equipment. In addition, these records provide the most efficient means for OSHA compliance officers to determine that an employer performed the required inspections and load tests, thereby assuring that the equipment is safe to operate.

Developing and maintaining records for air-quality tests. Paragraph (j)(3) of the Standard mandates that employers develop records for air-quality tests performed under paragraph (j), including air-quality tests required by paragraphs (j)(1)(ii)(A) through (j)(1)(iii)(A), (j)(1)(iii)(B), (j)(1)(iii)(C), (j)(1)(iii)(D), (j)(1)(iv), (j)(1)(v)(A), (j)(1)(v)(B), and (j)(2)(i) through (j)(2)(v). Paragraph (j) also requires that air-quality records include specified information, and that employers maintain the records until the underground-construction project is complete; they must also make the records available to OSHA compliance officers on request.

Maintaining records of air-quality tests allow employers to document atmospheric hazards, and to ascertain the effectiveness of controls (especially ventilation) and implement additional controls if necessary.

Accordingly, these requirements prevent serious injury and death to employees who work on underground-construction projects. In addition, these records provide an efficient means for employees to evaluate the accuracy and effectiveness of an employer's exposure-reduction program, and for OSHA compliance officers to determine that employers performed the required tests and implemented appropriate controls.

Agency: Occupational Safety and Health Administration.

Type of Review: Extension of currently approved collection.

Title: Construction Standards on Posting Emergency Telephone Numbers and Floor Load Limits.

OMB Number: 1218-0093.

Frequency: On occasion.

Type of Response: Third party disclosure.

Affected Public: Business or other for-profit; not-for-profit institutions; Federal government; and State, local, or tribal government.

Number of Respondents: 74,325.

Number of Annual Responses: 74,325.

Estimated Time per Response: 2 minutes for posting an emergency telephone number and 15 minutes for posting floor load limits.

Total Burden Hours: 8,901.

Total Annualized capital/startup costs: $0.

Total Annual Costs (operating/maintaining systems or purchasing services): $0.

Description: Two Construction standards, “Medical Services and First Aid” (Sec. 1926.50), and “General Requirements for Storage” (Sec. 1926.250), contain posting provisions. Paragraph (f) of Sec. 1926.50 requires employers to post emergency telephone numbers for physicians, hospitals, or ambulances at the worksite if the 911 emergency telephone services is not available; in the event an employee has a serious injury at the worksite, this posting requirement expedites emergency medical treatment of the employee. Paragraph (a)(2) of Sec. 1926.250 specifies that employers must post the maximum safe load limits of floors located in storage areas inside buildings or other structures, unless the floors are on grade. This provision prohibits employers from overloading floors in areas used to store material and equipment in multi-story units that are under construction, thereby preventing the floors from collapsing and seriously injuring employees.

Agency: Occupational Safety and Health Administration.

Type of Review: Extension of currently approved collection.

Title: Cranes and Derricks Standards for Construction: Posting Weight and Load Capacity of Personnel Platforms.

OMB Number: 1218-0151.

Frequency: On occasion.

Type of Response: Third party disclosure.

Affected Public: Business or other for-profit; not-for-profit institutions; Federal government; and State, local, or tribal government.

Number of Respondents: 2,750.

Number of Annual Responses: 2,750.

Estimated Time per Response: 5 minutes.

Total Burden Hours: 229.

Total Annualized capital/startup costs: $0.

Total Annual Costs (operating/maintaining systems or purchasing services): $0.

Description: Paragraph (g)(4)(ii)(I) of the Cranes and Derricks Standard for Construction (Sec. 1926.550) requires employers to post conspicuously with a plate or other permanent marking the weight and rated load capacity or maximum intended loads of each platform used to raise and lower employees to a worksite using a crane or derrick. This requirement helps employers to avoid exceeding the lifting capacity of such platforms and the cranes or derrick being used to lift the platforms. Therefore, this requirement can prevent the platform, crane, or derrick from collapsing and causing serious injury or death to employees on or below the platform.

Ira L. Mills,
Departmental Clearance Officer.

[FR Doc. 05-4211 Filed 3-3-05; 8:45 am]

BILLING CODE 4510-26-P